NUCLEAR REGULATORY COMMISSION

[Docket No. 50-483]

Union Electric Company; Notice of Withdrawal of Application for Amendment to Facility Operating License

The U.S. Nuclear Regulatory Commission (the Commission) has granted the request of Union Electric Company (the licensee) to withdraw its June 27, 2003, revised by letter dated December 19, 2003, application for proposed amendment to Facility Operating License No. NPF-30 for the Callaway Plant, Unit 1, located in Callaway County, Missouri.

The proposed amendment would have revised Technical Specification (TS) 3.8.1, “AC Sources—Operating.” The proposed change would revise Required Actions A.3 and B.4 for TS 3.8.1 to allow a longer required Action Completion Time (allowed outage time) for an inoperable diesel generator, when removing the diesel generator from service to perform voluntary, planned maintenance.

The Commission had previously issued a Notice of Consideration of Issuance of Amendment published in the Federal Register on July 22, 2003 (68 FR 43396). However, by letter dated June 28, 2005, the licensee withdrew the proposed change.

For further details with respect to this action, see the licensee's application for amendment dated June 27, 2003, as revised by letter dated December 19, 2003, and the licensee's letter dated June 28, 2005, which withdrew the application for a license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated in Rockville, Maryland, this 11th day of July, 2005.
For the Nuclear Regulatory Commission.
Jack Donohew,
Senior Project Manager, Section 2, Project Directorate IV, Division of Licensing Project Management, Office of Nuclear Reactor Regulation.

[FR Doc. 05-14361 Filed 7-20-05; 8:45 am]

BILLING CODE 7590-01-P